DEPARTMENT OF COMMERCE

National Institute of Standards and Technology

Third Smart Grid Interoperability Standards Interim Roadmap Public Workshop

AGENCY: National Institute of Standards and Technology (NIST), United States Department of Commerce.

ACTION: Notice of public workshop.

SUMMARY: The National Institute of Standards and Technology announces that a free two-day public workshop on Smart Grid interoperability standards will be held on August 3-4, 2009, in the Washington, DC area. Space is limited to about 300 people. Registration will be on a first come, first served basis. Opening and closing plenary sessions will be Webcast, and the breakout sessions will be teleconferenced. Information on how to view the Webcasts and join the teleconferences will be posted in advance on the NIST smart grid Web site at: http://www.nist.gov/smartgrid/.

DATES: The free public workshop will be held on August 3 and 4, 2009, from 8 a.m. to 5 p.m. each day.

ADDRESSES: The free public workshop will be held at: Westfields Marriott Washington Dulles, 14750 Conference Center Drive, Chantilly, Virginia 20151, (http://www.marriott.com/hotels/travel/iadwf-westfields-marriott-washington-dulles/).

Persons interested in attending may register at: http://guest.cvent.com/i.aspx?4W,M3,8954df11-b743-4b4b-9487-3d71b252286d, or by calling Ashley Eldrege of the Electric Power Research Institute, at 650-855-2063.

FOR FURTHER INFORMATION CONTACT: Zulma Lainez at 301-975-2232 or by e-mail at smartgrid@nist.gov. Registration information will be posted at: http://www.nist.gov/smartgrid/ and at http://guest.cvent.com/EVENTS/Calendar/Calendar.aspx?cal=22e6c583-7b72-4ba0-9898-598e801ee421.

SUPPLEMENTARY INFORMATION: Under the Energy Independence and Security Act (EISA) of 2007 (Pub. L. 110-140), the National Institute of Standards and Technology (NIST) has “primary responsibility to coordinate development of a framework that includes protocols and model standards for information management to achieve interoperability of smart grid devices and systems * * *” (EISA, Section 1305]

In 2008, responding to this congressional mandate, NIST initiated a government/industry effort to develop an Interoperability Framework and to engage the many Smart Grid stakeholders in a coordinated approach to identify or develop needed standards. This coordinated effort was designed and initiated in full collaboration with the Department of Energy. In early 2009, responding to President Obama's energy-related national priorities, NIST intensified and expedited efforts to accelerate progress toward identification of Smart Grid standards.

NIST will submit standards that are identified or developed through this process to the Federal Energy Regulatory Commission (FERC). Once FERC determines that there is sufficient consensus, EISA instructs FERC to institute a rulemaking proceeding to adopt the standards and protocols that may be necessary to ensure that there is Smart Grid functionality and interoperability in interstate transmission of electric power, and in regional and wholesale electricity markets.

A key objective of the workshop is to engage Standards Development Organizations (SDOs) in addressing standards-related priorities, efficiently and expeditiously. Plenary and break-out sessions will be devoted to discussing individual SDO perspectives on the evolving roadmap for Smart Grid interoperability standards; identifying individual and collaborative responsibilities of SDOs to address and resolve standards issues and gaps, and develop plans and set timelines for the meeting these responsibilities.

NIST recently posted the Report to NIST on the Smart Grid Interoperability Standards Roadmap for public comment until July 30. This report, prepared by the Electric Power Research Institute (EPRI) under contract to NIST, can be found on the NIST Smart Grid Interoperability Standards Project (http://nist.gov/smartgrid/). A recorded Webcast that describes the Report can be found at http://intelligrid.epri.com. (Click on: Briefing on the EPRI report to NIST on Smart Grid Interoperability Standards Roadmap for the NIST DEWGs.)

On the basis of its review of this report, and other information, NIST has identified high-priority areas that it is proposing for immediate, focused action by SDOs and stakeholder groups.

Additional Information. More information is available on the NIST Smart Grid project Web site at: http://www.nist.gov/smartgrid/. To help it fulfill its mandate to facilitate Smart Grid standards interoperability, NIST also manages a Smart Grid collaboration Web site at: http://collaborate.nist.gov/twiki-sggrid/bin/view/SmartGrid/WebHome. NIST recently exercised the option to extend an existing contract with the Electric Power Research Institute (EPRI) to perform services related to NIST's effort to coordinate development of Smart Grid standards. The contract requires EPRI to help NIST organize and facilitate workshops at which stakeholders will present, review, develop, and work to towards consensus on roadmap content, and to use its technical expertise to compile, distill, and organize stakeholder contributions. This notice announces the third workshop organized by EPRI. All EPRI outputs under the contract are subject to NIST review and approval and are owned by NIST.

Dated: July 21, 2009.
Patrick Gallagher,
Deputy Director.

[FR Doc. E9-17720 Filed 7-23-09; 8:45 am]

BILLING CODE 3510-13-P